DEPARTMENT OF ENERGY

Federal Energy Regulatory Commission

[Docket No. EL16-28-000]

NRG Wholesale Generation LP; Seward Generation, LLC: Notice of Institution of Section 206 Proceeding and Refund Effective Date

On January 14, 2016, the Commission issued an order in Docket No. EL16-28-000, pursuant to section 206 of the Federal Power Act (FPA), 16 U.S.C. 824e (2012), instituting an investigation into the justness and reasonableness of NRG Wholesale Generation LP's reactive power rates for the Seward Generation Facility. NRG Wholesale Generation LP, 154 FERC ¶ 61,017 (2016).

The refund effective date in Docket No. EL16-28-000, established pursuant to section 206(b) of the FPA, will be the date of publication of this notice in the Federal Register.

Dated: January 21, 2016.
Nathaniel J. Davis, Sr.,
Deputy Secretary.

[FR Doc. 2016-01804 Filed 2-1-16; 8:45 am]

BILLING CODE 6717-01-P